SMALL BUSINESS ADMINISTRATION

Small Business Size Standards: Waiver of the Nonmanufacturer Rule

AGENCY: U.S. Small Business Administration.

ACTION: Notice to waive the Nonmanufacturer Rule for Product Service Code (PSC) 9130—Liquid Propellants—Petroleum Base Manufacturing.

SUMMARY: The U.S. Small Business Administration (SBA) is granting a waiver of the Nonmanufacturer Rule for PSC 9130—Liquid Propellants—Petroleum Base Manufacturing. The basis for waiver is that no small business manufacturers are supplying these classes of products to the Federal government. The effect of a waiver would be to allow otherwise qualified small businesses to supply the products of any manufacturer on a Federal contract set aside for small businesses, service-disabled veteran-owned small businesses or participants in SBA's 8(a) Business Development (BD) Program.

DATES: This waiver is effective June 23, 2009.

FOR FURTHER INFORMATION CONTACT: Pamela M. McClam, Program Analyst, by telephone at (202) 205-7408; by FAX at (202) 481-4783; or by e-mail at Pamela.McClam@sba.gov.

SUPPLEMENTARY INFORMATION: Section 8(a)(17) of the Small Business Act (Act), 15 U.S.C. 637(a)(17), requires that recipients of Federal contracts set aside for small businesses or participants in SBA's 8(a) (BD) Program to provide the product of a small business manufacturer or processor, if the recipient is other than the actual manufacturer or processor of the product. SBA's regulations provided the same for procurements set aside for service-disabled veteran-owned small business concerns. This requirement is commonly referred to as the Nonmanufacturer Rule. See 13 CFR § 121.406(b). Section 8(a)(17)(b)(iv) of the Act authorizes SBA to waive the Nonmanufacturer Rule for any “class of products” for which there are no small business manufacturers or processors available to participate in the Federal market. In order to be considered available to participate in the Federal market for a class of products, a small business manufacturer must have submitted a proposal for a contract solicitation or received a contract from the Federal government within the last 24 months. 13 CFR 1202(c).

The SBA defines “class of products” based on the Office of Management and Budget's North American Industry Classification System (NAICS) and PSCs within the NAICS code category. SBA received a request on April 20, 2009, to waive the Nonmanufacturer Rule for NAICS 324110, Petroleum Refineries, PSC 9130—Liquid Propellants—Petroleum Base Manufacturing.

In response, on May 11, 2009, SBA published in the Federal Register a notice of intent to waive the Nonmanufacturer Rule for PSC 9130—Liquid Propellants—Petroleum Base Manufacturing. SBA explained in the notice that it was soliciting comments and sources of small business manufacturers of this class of products. No comments were received and SBA has determined that there are no small business manufacturers of these classes of products. Therefore, SBA is granting the waiver of the Nonmanufacturer Rule for PSC 9130—Liquid Propellants—Petroleum Base Manufacturing.

Karen C. Hontz,
Director for Government Contracting.

[FR Doc. E9-13262 Filed 6-5-09; 8:45 am]

BILLING CODE 8025-01-P